FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

AMS Container Line, Inc., 126 Orion Road, Piscataway, NJ 08854, Officer: Inderpal S. Khokhar, President (Qualifying Individual).

PATJAM Shipping Moving and Storage Inc., dba Patrick's Shipping, Inc., 3477 NW 19th Street, Lauderdale Lakes, FL 33311, Officers: Patrick McNeil, President, (Qualifying Individual), Terrance Pennicooke, Vice President.

AWOT Global LLC, 58 Aspen Way, Rolling Hills Estates, CA 90274, Officers: Michael T. Huang, President (Qualifying Individual), Diana T. Huang, Secretary.

Non-Vessel Operating Common Carrier and Ocean Freight Forwarder Transportation Intermediary Applicants:

The Pasha Group dba Asiatic Trans-Pacific, dba Pasha Distribution Services, Pasha Freight, CTC Transportation dba Pasha International, 5725 Paradise Drive, Ste. 1000, Corte Madera, CA 94925, Officer: Elaine Brown, Exec. Secretary (Qualifying Individual).

Astec North America Inc. dba Astec Logistics, 11461 NW 34th Street, Doral, FL 33178, Officer: Paulo H. Carvalho, President (Qualifying Individual).

NK America, Inc., 2640 Campbell Road, Sidney, OH 45365, Officers: Jaime J. Reyes, Vice President (Qualifying Individual), Masakatsu Kuroiwa, President.

Ocean Freight Forwarder—Ocean Transportation Intermediary Applicants:

Newesco, Inc. dba Nelson Westerberg International, 1500 Arthur Avenue, Elk Grove Village, IL 60007, Officers: John R. Westerberg, Chairman/CEO, Edward J. Pionke, President (Qualifying Individuals).

Tarraf Inc. dba Tarraf Shipping, 15846 W. Warren Avenue, Detroit, MI 48228, Officer: Mohamad Tarraf, President (Qualifying Individual).

Dated: December 5, 2008
Karen V. Gregory,
Secretary.

[FR Doc. E8-29175 Filed 12-9-08; 8:45 am]

BILLING CODE 6730-01-P